DEPARTMENT OF AGRICULTURE

Animal and Plant Health Inspection Service

9 CFR Part 93

[Docket No. APHIS-2016-0033]

RIN 0579-AE62

Import Regulations for Horses

AGENCY: Animal and Plant Health Inspection Service, USDA.

ACTION: Proposed rule.

SUMMARY: We are proposing to amend the regulations for the importation of equines. These changes include increasing the number of days horses exported from regions free from contagious equine metritis (CEM) are allowed to spend in a CEM-affected region and re-enter the United States without testing from 60 days to 90 days; requiring an import permit for horses transiting through CEM-affected regions; adding requirements for health certifications to ensure health certifications properly attest to the health of the imported horse; removing the requirement that horses permanently imported from Canada undergo inspection at the port of entry; requiring that horses transiting Central America or the West Indies comply with the same regulations that apply to horses directly imported from these regions; and adding requirements for shipping containers used in transporting horses. We are also proposing a number of miscellaneous changes to the regulations such as clarifications of existing policy or intent, and corrections of inconsistencies or outdated information. Many of these proposed changes would better align our regulations with international standards and allow us and the equine industry more flexibility. The proposed changes would also add further safeguards that protect against introducing or disseminating pests or diseases of livestock into the United States.

DATES: We will consider all comments that we receive on or before January 28, 2022.

ADDRESSES: You may submit comments by either of the following methods:

• Federal eRulemaking Portal: Go to www.regulations.gov. Enter APHIS-2016-0033 in the Search field. Select the Documents tab, then select the Comment button in the list of documents.

• Postal Mail/Commercial Delivery: Send your comment to Docket No. APHIS-2016-0033, Regulatory Analysis and Development, PPD, APHIS, Station 3A-03.8, 4700 River Road, Unit 118, Riverdale, MD 20737-1238.

Supporting documents and any comments we receive on this docket may be viewed at www.regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Iwona Popkowski, VS Strategy and Policy, Live Animal Imports, VS, APHIS, 4700 River Road, Unit 39, Riverdale, MD 20737-1231; (301) 851-3300.

SUPPLEMENTARY INFORMATION:

Background

Under the Animal Health Protection Act (AHPA, 7 U.S.C. 8301 et seq.), the Secretary of Agriculture may prohibit or restrict the importation or entry of any animal, article, or means of conveyance if the Secretary determines that the prohibition or restriction is necessary to prevent the introduction into or dissemination within the United States of any pest or disease of livestock. The AHPA also authorizes the Secretary to prohibit or restrict the use of any means of conveyance in connection with the importation or entry of livestock if the Secretary determines that the prohibition or restriction is necessary because the means of conveyance has not been maintained in a clean and sanitary condition or does not have accommodations for the safe and proper movement of livestock.

The regulations in 9 CFR part 93 (referred to below as the regulations) prohibit or restrict the importation of certain animals, including horses, as well as their means of conveyance, pursuant to the AHPA. We are proposing a number of changes to the horse import regulations to better align them with international standards and improve flexibility for both the equine industry and the Animal and Plant Health Inspection Service (APHIS).

Contagious Equine Metritis

In § 93.301, paragraph (e)(3) contains the requirements for testing and treatment of stallions, and paragraph (e)(5) the testing and treatment requirements for mares, that are imported from regions where contagious equine metritis (CEM) exists after the stallions or mares have entered quarantine in an approved State. Both paragraphs specify the specimens that must be taken for testing; however, while paragraph (e)(5) requires that the samples from mares be collected by an accredited veterinarian, paragraph (e)(3) does not require that samples from stallions be collected by an accredited veterinarian. To correct this inconsistency, we are proposing to amend paragraph (e)(3)(i) to require that the samples from stallions be collected by an accredited veterinarian.

Paragraph (e)(3)(i)(B) describes CEM testing procedures for mares to which stallions are test bred and includes the numbers of days after breeding certain procedures should occur. In order to facilitate accurate counting and eliminate confusion about whether the first day should be considered the day of breeding or the day after breeding, we are proposing to add language clarifying that the day after the date of breeding should be considered the first day.

Paragraph (e)(4) contains requirements for mares used to test stallions for CEM. Currently, the regulations state that test mares used for such testing must be marked with the letter “T.” To allow for greater flexibility, we are proposing to add the phrase “or other permanent identification approved by APHIS” to this requirement. Importers interested in using other means of permanent identification would be able to contact APHIS Live Animal Imports by email at VS.CEM.DATA@usda.gov to seek approval.

Paragraph (g) contains special provisions for the importation of horses that have been temporarily exported to a region where CEM exists. Currently, horses exported from the United States or another region not known to be CEM-affected are allowed to spend up to 60 days in a CEM-affected region and be re-imported into the United States without having to undergo CEM testing, provided certain conditions are met. The conditions include that the horse be accompanied by a certificate that meets the requirements in § 93.314(a) of the regulations issued by each CEM-affected region that the horse has visited during the term of its temporary exportation. The certificate must include additional declarations stating, among other things, that the horse was held separate and apart from all other horses except for the time it was actually participating in an event and that the horse was not bred while in the CEM-affected region. We are proposing to amend the regulations to extend the temporary export period to 90 days, while maintaining the same separation and documentation requirements.

We are making this change after the equine industry asked APHIS to consider increasing the temporary export period to 90 days to better align our regulations with typical competition cycles. Competition horses move frequently between the United States, Canada, and CEM-affected regions within European Union Member States, and the competition cycle is often more than 60, but no more than 90, days.

APHIS has concluded that the risk of horses introducing CEM to the United States would continue to be minimal if the temporary export period was increased to 90 days. The most significant safeguards against these horses introducing CEM into the United States are the attestations required by the health certificate in the current regulations, rather than the amount of time the horses may spend in a CEM-affected region. Horses temporarily exported to a CEM-affected region must be accompanied by endorsed health certificates from the CEM-affected region(s) attesting that the returning horses were never used for breeding; were held separately from other horses while not in competition or training; and, have never undergone a genital examination which could have exposed these returning horses to CEM. Because CEM is spread through genital contact, we consider these attestations to be effective mitigations against the introduction of CEM.

We would also make minor editorial changes to paragraph (g) by adding clarifying language and changing the syntax to better explain to which horses the paragraph applies. We are also correcting a reference in paragraph (g)(4) that incorrectly referred to paragraphs (a) through (c) but should have instead pointed to paragraphs (g)(1) through (3).

Paragraph (h) lists conditions that a State must meet in order to be approved to receive stallions or mares over 731 days of age from a CEM-affected region. We are proposing to add a new paragraph (h)(4) to this list of conditions that a State must agree to provide oversight during the test breeding of quarantined stallions. Oversight is necessary in order to ensure that this process is carried out correctly and completely. This change comes at the request of numerous States that have recognized this need but have had difficulty implementing and enforcing this requirement because it was not listed in the regulations. By adding a new paragraph (h)(4), we would redesignate current paragraphs (h)(4) through (7) as paragraphs (h)(5) through (8), respectively. We are also proposing to fix broken internet addresses in newly designated paragraphs (h)(7) and (8) that link to the lists of States approved by APHIS to receive such stallions or mares, as well as correct the mailing address where these lists may alternatively be obtained to reflect current organizational structure.

Import Permits

In § 93.304, paragraph (a) contains provisions governing imports for which a permit is required. Currently, only horses from regions that APHIS considers to be affected with CEM, horses intended for quarantine at a privately owned quarantine facility, and horse test specimens for diagnostic screening purposes are required to submit an application for an import permit. Because horses transiting through regions affected with CEM present risks similar to those presented by horses imported directly from these regions, we are proposing to add horses transiting CEM-affected regions listed in § 93.301(c)(1) en route to the United States to § 93.304(a)(1)(i). Horses transiting through regions APHIS considers to be affected with CEM would be required to apply for an import permit and fulfil all other conditions listed in § 93.304(a) that are currently only required of horses imported directly from these regions.

Paragraph (a)(1)(i) also currently states that additional information may be required during the import permit application process, which may come “in the form of certificates concerning specific diseases to which the horses are susceptible, as well as vaccinations or other precautionary treatments to which the horses or horse test specimens have been subjected.” We are proposing to add the phrase “or other attestation regarding the health of the animals” to this sentence in order to further clarify the nature of the information that APHIS may require. Such additional attestation may include requiring certain subsets of horses to provide certification that the horses have not been exposed to other pests or diseases beyond the diseases already addressed in the health certificate, if necessary.

We are also proposing to clarify that the provisions of this section apply to horses intended for quarantine at Federal quarantine facilities as well, in order to reflect current practices more accurately. On October 28, 2020, APHIS Veterinary Services (VS) issued an import notice,¹ a type of order issued pursuant to the AHPA, regarding import permits for horses from CEM-affected regions. That notice addressed a prior inconsistency in enforcing the import permit requirements for certain horses who enter Federal quarantine facilities and acknowledged that this inconsistency caused confusion and difficulties for both port personnel and importers. The notice clarified that, beginning January 1, 2021, all horses from CEM-affected regions must be accompanied by an import permit, regardless of where import quarantine is completed. This proposed clarification seeks to codify the import notice and add this same clarification to the regulations.

¹ To view the import notice, go to: https://www.aphis.usda.gov/import_export/animals/equine/import-permits-equine-cem-regions.pdf.

Health Certification

Section 93.314 of the regulations outlines specific health certification requirements for horses offered for importation into the United States. We are proposing to clarify current health certification regulations to increase compliance. This includes requiring that certifications are prepared and issued directly from the national government of the region of origin or annotated by the national government of the region of origin to indicate how the documentation may be verified; requiring that origin and destination addresses are listed on the certificate; and requiring identifying information regarding the horse or horse test specimens, importer, and exporter are listed on the health certificate. These proposed changes would help APHIS confirm the legitimacy of the required documentation, as well as align information presented on the health certificate with what is currently required for other accompanying documents, such as the declaration of importation and the import permit.

We are also proposing to require that, if applicable, health certificates confirm that the horse has not been castrated during the 14 days preceding exportation. Horses that have been so recently castrated are at an increased risk of infection and transporting them during this window risks compromising both their own health and the health of other horses. We would also require that castrated horses be accompanied by a certificate of castration.

Additionally, we are proposing to require that horses be accompanied by documentation stating that a pre-export examination occurred within 48 hours of the horse's export in order to further ensure that horses imported into the United States are free of pests and diseases of livestock and fit to travel at the time of export.

We are also proposing two minor edits to align this section with other sections regarding horses in special circumstances.

Paragraph (a)(1) requires health certificates to state that horses have been in the said region for the 60 days preceding exportation. In light of the change proposed to § 93.301(g), allowing horses to be temporarily exported to CEM-affected countries for 90 days, we are proposing to add to this paragraph that, for horses described in § 93.301(g), this attestation applies for the duration of the horses' temporary exportation to each CEM-affected region. This is necessary to ensure that health certificates for these horses continue to include accurate information regarding their whereabouts for the entire duration of their temporary exportation.

We would also clarify that paragraph (a)(7)(i), which requires health certificates to state that horses have not been in any region affected with CEM during the 12 months immediately prior to export, does not apply to horses described in § 93.301(f), which are horses from regions affected with CEM that are temporarily imported to the United States for competition or entertainment purposes. These latter horses have special provisions outlined in § 93.301(f), and this change clarifies § 93.314 to align with those provisions.

Horses From Canada

Section 93.317 of the regulations governs the importation of horses from Canada, while § 93.318 governs special provisions concerning these importations. Currently, horses from Canada temporarily imported into the United States may enter through any Canada-U.S. land border port that allows entry of animals without an APHIS inspection, whereas horses from Canada permanently imported into the United States must receive an inspection prior to entry. We are proposing to amend the regulations to remove distinctions between temporary and permanent import by removing the requirement that horses presented for permanent importation receive an inspection prior to entry. Requirements that currently apply to both temporarily imported and permanently imported horses would remain the same; horses would be allowed to enter the United States when accompanied by an official, Canadian Food Inspection Agency-endorsed health certificate issued within 30 days of the date of entry into the United States and when there are negative results of a test for equine infectious anemia taken within 180 days of entry.

APHIS considers the health status of temporarily and permanently imported horses from Canada to be generally equivalent. Moreover, the health certificate, which requires negative tests for diseases of pests or livestock affecting horses, already provides sufficient evidence that the horses presented for importation are free of communicable disease. For these reasons, this change would not increase the risk of introducing communicable diseases or pests of livestock into the United States. Additionally, the proposed change would align APHIS import requirements with Canada's requirements for import of horses from the United States, which stipulates that U.S.-origin horses must meet the same import requirements regardless of whether they are imported temporarily or permanently.

This proposed change would not impact the special provisions for horses from Canada imported for immediate slaughter or for horses from Canada transported in-bond through the United States for immediate export, which will continue to be inspected at the port of entry.

Horses From Central America and the West Indies

Section 93.319 contains import permit requirements for horses imported from Central America and the West Indies. In that section currently, only horses directly imported from Central America and the West Indies are required to present an import permit and declaration upon entry. Likewise, the requirements concerning health certificates, quarantine, and testing listed in § 93.320 currently only apply to horses directly imported from these regions as well. Because horses transiting through these regions present risks similar to those presented by horses imported directly from them, we are proposing to add horses that transit Central America or the West Indies en route to the United States be required to comply with these requirements upon entry as well. We would also clarify existing policy by adding to § 93.319 that all horses imported from or transiting Central America and the West Indies are required to have obtained an import permit in accordance with § 93.304; this requirement is currently implied by the heading of the section, but not overtly stated in the text.

Shipping Containers

Section 93.302 governs the inspection, unloading, cleaning, and disinfection requirements of certain aircraft and other means of conveyance and shipping containers. We are proposing to amend the regulations to include a paragraph that addresses the requirements for shipping containers, including disinfection requirements, as well as measures to ensure that horses are transported safely. This will address the repeated health and safety issues present for equines during transport and will provide APHIS with more regulatory authority to enforce standards for shipping containers. We are proposing to present these requirements as performance standards in the regulations. Guidance on how to meet these requirements would be found in the Live Animal Regulations (LAR), as amended, published by the International Air Transport Association (IATA). If an importer wishes to use alternative means of meeting the requirements other than those in the LAR, they would be able to contact APHIS Live Animal Imports to ask for approval by phone at (301) 851-3300, option 2, or by email at VS.Live.Animal.Import.Export@usda.gov.

Miscellaneous

Lastly, in various sections, we are proposing to add language that clarifies existing policy in order to reduce confusion and ensure that the regulations are as clear as possible, as well as to update outdated information.

Paragraph (d) of § 93.301 governs the importation of Spanish pure breed horses from Spain and racing thoroughbred horses from France, Germany, Ireland, and the United Kingdom. Paragraph (d)(1)(ii) stipulates that such horses must be accompanied by a health certificate and outlines the requirements of such health certificates. We are proposing to require that, for Spanish pure breed horses, the health certificate state that the horses have been in Spain for a minimum of 60 days immediately prior to export. For racing thoroughbreds from France, Germany, Ireland and/or the United Kingdom, the health certificate must state that the horses have been in one or more of these countries for a minimum of 60 days immediately prior to export. We are proposing these changes in response to confusion about what the phrases “from Spain” and “from France, Germany, Ireland, and the United Kingdom” mean in the context of horses referred to in this paragraph.

The regulations currently require the veterinarian issuing such health certificates to certify that he or she has examined the records of the horse's activities maintained by a breed association. We are proposing to add the words “and identification” after the word “activities” to better describe the information the veterinarian is required to examine.

The current regulations require the veterinarian to compare records kept by the breed association to records kept by the horse's trainer. We are proposing to add the words “including the competition or event records” after the words “the records kept by the trainer” to provide veterinarians with more detailed guidance on which records they are required to examine.

For Spanish pure breed horses from Spain, the veterinarian is currently required to examine the breed association's records to ensure that breeding of the horse has never been attempted since the horse reached 731 days of age. To address current and future breeding technologies and practices, we are proposing to clarify that this prohibition on breeding applies to both live and artificial breeding.

We are also proposing to make a minor editorial change to this section by adding the word “racing” in front of the words “thoroughbred horses from France, Germany, Ireland, and the United Kingdom” in the introductory text to paragraph (d).

Paragraph (j) of § 93.301 describes the general entry requirements for horses from regions where screwworm exists. We are proposing to move these requirements from § 93.301 to § 93.308, where other import testing and examination requirements are listed. The requirements for importation of horses from regions where screwworm exists would be found in § 93.308(a)(3).

We would also replace the phrase “APHIS animal import center,” which is currently provided as the location of quarantine, with the more precise phrase “port designated in § 93.303.” Additionally, we would clarify that horses imported from regions where screwworm exists must also obtain an import permit in accordance with § 93.304.

Section 93.306 governs the inspection of imported horses at the port of entry. Currently, the regulations state that all horses that fail to meet the provisions part 93 will be refused entry. We would clarify that this provision applies to horses dead upon presentation as well.

Section 93.307 stipulates that no articles accompanying horses during their importation shall be landed at the port of entry except as directed by the inspector in charge of the port of entry. Currently, the regulations include in the list of relevant articles “other things used for or about horses governed by the regulations this part.” We are proposing to replace this phrase with the more specific phrase “other things used for or about horses governed under any law or regulation administered by the Secretary of Agriculture for prevention of the introduction or dissemination of any pests or diseases of livestock.”

Paragraph (a)(1) of § 93.308 governs the importation of horses from regions where Venezuelan equine encephalomyelitis (VEE) exists. Currently, paragraph (a)(1)(i) states that APHIS keeps a list of regions free of VEE. This is incorrect. Instead, APHIS keeps a list of regions affected with VEE. Paragraph (a)(1)(ii) explains the procedures for adding and removing regions from this list, and, in doing so, references the incorrect description of the nature of this list. We are proposing to correct these statements.

Additionally, we are proposing to clarify existing policy by adding that horses imported from regions where VEE exists must obtain an import permit in accordance with § 93.304 in addition to all other requirements listed. We would also make minor syntactical changes to improve readability and clarity.

Paragraph (b) of § 93.308 describes temporary, privately owned quarantine facilities in which some horses may complete quarantine. In order to accurately reflect current practices, we are proposing to clarify that horses originating from regions in which Venezuelan equine encephalomyelitis or screwworm is declared to exist may not complete quarantine in temporary, privately-owned quarantine facilities. Horses from these regions cannot currently complete quarantine in such facilities, nor have they been able to in the past, as the requirements for temporary quarantine facilities are not sufficient to safeguard against vector-borne foreign animal diseases (which include screwworm, Venezuelan equine encephalomyelitis, and African horse sickness).

Current paragraph (a)(5)(i) of § 93.314, which will be redesignated as paragraph (a)(7)(i) in this proposed rule, stipulates that health certificates must state that the horse has not been in a CEM-affected region during the 12 months prior to their importation and mentions that CEM-affected regions are listed in § 93.301(c)(1). However, § 93.301(c)(1) does not list these regions, but instead states that APHIS maintains such a list on the APHIS website. We are proposing to change the phrase “listed in § 93.301(c)(1)” to “listed in accordance with § 93.301(c)(1) on the APHIS website” to correct this.

Section 93.321 outlines the import permit and inspection requirements for horses imported from Mexico. We are proposing to add a sentence stating that horses completing quarantine in the United States must obtain an import permit as described in § 93.304 in order to clarify existing policy.

Footnotes in §§ 93.308 and 93.324 refer to disease testing protocol documents that no longer exist. We are proposing to replace the information in these footnotes with references to the APHIS website, where current guidance documents outlining the protocol for testing horses in quarantine is available.

Executive Order 12866 and Regulatory Flexibility Act

This proposed rule has been determined to be not significant for the purposes of Executive Order 12866 and, therefore, has not been reviewed by the Office of Management and Budget.

In accordance with 5 U.S.C. 603, we have performed an initial regulatory flexibility analysis, which is summarized below, regarding the economic effects of this proposed rule on small entities. Copies of the full analysis are available by contacting the person listed under FOR FURTHER INFORMATION CONTACT or on the Regulations.gov website (see ADDRESSES above for instructions for accessing Regulations.gov).

Based on the information we have, there is no reason to conclude that adoption of this proposed rule would result in any significant economic effect on a substantial number of small entities. However, we do not currently have all the data necessary for a comprehensive analysis of the effects of this proposed rule on small entities. Therefore, we are inviting comments on potential effects. In particular, we are interested in determining the number and kind of small entities that may incur benefits or costs from the implementation of this proposed rule.

APHIS proposes amending elements of its equine import regulations.

First, APHIS proposes amending its regulations for temporary export of horses to CEM-affected regions. The proposed changes will allow horses to spend up to 90 days in a CEM-affected region.

The proposed amendments will also allow APHIS to correct information in §§ 93.308, 93.314, and 93.319. This includes updating the website to reflect current policies and affected regions. It also includes amending the description of health certification and permit requirements.

Finally, APHIS proposes to amend requirements for import of horses from Canada by removing distinctions between temporary and permanent import.

Executive Order 12988

This proposed rule has been reviewed under Executive Order 12988, Civil Justice Reform. If this proposed rule is adopted: (1) All State and local laws and regulations that are in conflict with this rule will be preempted; (2) no retroactive effect will be given to this rule; and (3) administrative proceedings will not be required before parties may file suit in court challenging this rule.

Paperwork Reduction Act

In accordance with Section 3507(d) of the Paperwork Reduction Act of 1995 (44 U.S.C. 3501 et seq.), the information collection requirements included in this proposed rule have been submitted to OMB as a new information collection for approval.

Written comments and recommendations for the proposed information collection should be sent within 60 days of publication of this document to www.reginfo.gov/public/do/PRAMain. Find this particular information collection by selecting “Currently under 60-day Review—Open for Public Comments” or by using the search function. Please send a copy of your comments to: (1) Docket No. APHIS-2016-0033, Regulatory Analysis and Development, PPD, APHIS, Station 3A-03.8, 4700 River Road, Unit 118, Riverdale, MD 20737-1238, and (2) Clearance Officer, OCIO, USDA, Room 404-W, 14th Street and Independence Avenue SW, Washington, DC 20250. A comment to OMB is best assured of having its full effect if OMB receives it within 30 days of publication of this proposed rule.

The regulations at 9 CFR 93.301 govern import prohibitions, restrictions, and requirements for horses, and are intended to prevent the introduction of foreign equine diseases into the United States. APHIS is proposing to amend these regulations to clarify and, in some cases, broaden the protection they provide.

APHIS will use a variety of information collection procedures and forms to gather data in its effort to prevent the introduction or spread of disease. In addition to recordkeeping, information collected includes, but is not limited to, applications for import or in-transit permits and declarations of importation; government-issued health, castration, and pre-export inspection certificates; and compliance with identification requirements. These documents or actions are used to properly identify and document the health and movement of horses into the United States. Additional information collections include those associated with CEM sampling specimen submissions that are required to track CEM samples taken to confirm animal health, and oversight agreements that are entered into by State governments to ensure the States comply with Federal quarantining, testing, and treatment requirements.

We are soliciting comments from the public (as well as affected agencies) concerning our proposed information collection and recordkeeping requirements. These comments will help us:

(1) Evaluate whether the proposed information collection is necessary for the proper performance of our agency's functions, including whether the information will have practical utility;

(2) Evaluate the accuracy of our estimate of the burden of the proposed information collection, including the validity of the methodology and assumptions used;

(3) Enhance the quality, utility, and clarity of the information to be collected; and

(4) Minimize the burden of the information collection on those who are to respond (such as through the use of appropriate automated, electronic, mechanical, or other technological collection techniques or other forms of information technology; e.g., permitting electronic submission of responses).

Estimate of burden: Public burden for this collection of information is estimated to average 0.52 hours per response.

Respondents: Animal importer and exporters, transport handlers, veterinarians, owners of private quarantine facilities, and foreign government and State animal health officials.

Estimated annual number of respondents: 343.

Estimated annual number of responses per respondent: 214.

Estimated annual number of responses: 73,274.

Estimated total annual burden on respondents: 38,339 hours. (Due to averaging, the total annual burden hours may not equal the product of the annual number of responses multiplied by the reporting burden per response.)

A copy of the information collection may be viewed on the Regulations.gov website or in our reading room. (A link to Regulations.gov and information on the location and hours of the reading room are provided under the heading ADDRESSES at the beginning of this proposed rule.) Information about the information collection process may be obtained from Mr. Joseph Moxey, APHIS' Paperwork Reduction Act Coordinator, at (301) 851-2483. APHIS will respond to any information collection request related comments in the final rule. All comments will also become a matter of public record.

E-Government Act Compliance

The Animal and Plant Health Inspection Service is committed to compliance with the E-Government Act to promote the use of the internet and other information technologies, to provide increased opportunities for citizen access to Government information and services, and for other purposes. APHIS estimates that 25 percent of the total responses can be processed electronically, either by downloading a fillable PDF file, emailing a document, or for respondents with accounts, using APHIS electronic information systems to process and submit information. The remainder of the collection activities in this information collection cannot be processed electronically because the instruments typically must accompany the animals during transit or are prepared and issued by foreign entities. For assistance with E-Government Act compliance related to this proposed rule, please contact Mr. Joseph Moxey, APHIS' Paperwork Reduction Act Coordinator, at (301) 851-2483, or the person listed under FOR FURTHER INFORMATION CONTACT.

List of Subjects in 9 CFR Part 93

Animal diseases, Imports, Livestock, Poultry and poultry products, Reporting and recordkeeping requirements.

Accordingly, we propose to amend 9 CFR part 93 as follows:

PART 93—IMPORTATION OF CERTAIN ANIMALS, BIRDS, FISH, AND POULTRY, AND CERTAIN ANIMAL, BIRD, AND POULTRY PRODUCTS; REQUIREMENTS FOR MEANS OF CONVEYANCE AND SHIPPING CONTAINERS

1. The authority citation for part 93 continues to read as follows:

Authority: 7 U.S.C. 1622 and 8301-8317; 21 U.S.C. 136 and 136a; 31 U.S.C. 9701; 7 CFR 2.22, 2.80, and 371.4.

2. Section 93.301 is amended as follows:

a. By adding a heading to paragraphs (a) and (b);

b. By revising the heading of paragraph (d);

c. By redesignating paragraphs (d)(1)(ii)(A) through (E) as paragraphs (d)(1)(ii)(B) through (F), respectively, and adding a new paragraph (d)(1)(ii)(A);

d. In newly redesignated paragraph (d)(1)(ii)(C) introductory text, by adding the words “and identification” after the word “activities”;

e. In newly redesignated paragraph (d)(1)(ii)(C)(4)(iii), by adding the words “, either live or artificial” after the word “attempted”;

f. In newly redesignated paragraph (d)(1)(ii)(D), by adding the words “, including the competition or event records,” after the word “trainer”;

g. In newly redesignated paragraph (d)(1)(ii)(F), by removing “(d)(1)(ii)(D)” and adding “(d)(1)(ii)(E)” in its place”;

h. In paragraph (d)(2), by removing “(d)(1)(ii)(D)” each time it appears and adding “(d)(1)(ii)(E)” in its place;

i. In paragraph (d)(3), by removing the words “paragraph (h)(6) or (h)(7)” and adding the words “paragraph (h)(7) or (8) in their place;

j. In paragraph (e)(2)(i), by removing “(h)(6)” and adding “(h)(7)” in its place, and by removing “(h)(7)” and adding “(h)(8)” in its place;

k. In paragraph (e)(3)(i) introductory text, by adding the words “by an accredited veterinarian” after the words “of the stallion”;

l. In paragraph (e)(3)(i)(B), by adding the words “(for the purposes of this section, the day after the date of breeding is considered the first day after breeding)” after the words “fourteenth day after breeding”;

m. By revising paragraph (e)(4)(i);

n. In paragraph (f)(10)(i), by removing the words “paragraph (h)(6) or (h)(7)” and adding the words “paragraph (h)(7) or (8) in their place;

o. By revising paragraph (g) introductory text;

p. In paragraph (g)(4), by removing the words “(a) through (c)” and adding the words “(g)(1) through (3)” in their place.

q. By redesignating paragraphs (h)(4) through (7) as paragraphs (h)(5) through (8), respectively, and adding a new paragraph (h)(4);

r. By revising newly redesignated paragraphs (h)(7) and (8); and

s. By removing paragraph (j).

The revisions and additions read as follows:

§ 93.301 General prohibitions; exceptions.

(a) General prohibitions. * * *

(b) General exceptions. * * *

* * * * *

(d) Spanish Pure Breed horses from Spain and racing thoroughbred horses from France, Germany, Ireland, and the United Kingdom.

(1) * * *

(ii) * * *

(A) For Spanish Pure Breed horses, the horses have been in Spain for a minimum of 60 days immediately prior to export; for racing thoroughbreds residing in France, Germany, Ireland and/or the United Kingdom, the horses have been in one or a combination of these countries for a minimum of 60 days immediately prior to export;

* * * * *

(e) * * *

(4) * * *

(i) Mares to be used to test stallions for CEM shall be permanently identified before the mares are used for such testing with the letter “T” or other permanent identification approved by APHIS on a case-by-case basis. The marking shall be permanently applied by an inspector, a State inspector, or an accredited veterinarian who shall use a hot iron, freezemarking, a lip tattoo, or other APHIS-approved method. If a hot iron or freezemarking is used, the marking shall not be less than 2 inches (5.08 cm) high and shall be applied to the left shoulder or left side of the neck of the mare. If a lip tattoo is used, the marking shall not be less than 1 inch (2.54 cm) high and 0.75 inch (1.9 cm) wide and shall be applied to the inside surface of the upper lip of the test mare.

* * * * *

(g) Special provisions for the importation of horses that have been temporarily exported to a CEM-affected region. If a horse originating from the United States has been temporarily exported for not more than 90 days to a CEM-affected region listed under paragraph (c)(1) of this section and returns to the United States during that time, or if a horse originating from a non-CEM affected region has been temporarily exported for not more than 90 days to a CEM-affected region during the 12 months preceding its proposed importation to the United States, the horse may be eligible for return, or for importation into the United States, without meeting the requirements of paragraphs (d) through (f) of this section, under the following conditions:

* * * * *

(h) * * *

(4) The State must agree to provide oversight during the test breeding of quarantined stallions.

* * * * *

(7) A list of States approved by APHIS to receive stallions over 731 days of age imported under paragraph (e) of this section is maintained on the APHIS website at [ADDRESS TO BE ADDED IN FINAL RULE]. Copies of the list will also be available via postal mail, fax, or email upon request to the Regionalization Evaluation Services, Veterinary Services, Animal and Plant Health Inspection Service, 4700 River Road, Unit 38, Riverdale, MD 20737.

(8) A list of States approved by APHIS to receive mares over 731 days of age imported under paragraph (e) of this section is maintained on the APHIS website at [ADDRESS TO BE ADDED IN FINAL RULE]. Copies of the list will also be available via postal mail, fax, or email upon request to Live Animal Imports, Veterinary Services, Animal and Plant Health Inspection Service, 4700 River Road, Unit 38, Riverdale, MD 20737.

* * * * *

3. Section 93.302 is amended as follows:

a. By redesignating paragraphs (a) through (d) as paragraphs (b) through (e), respectively, and adding a new paragraph (a); and

b. By adding a heading to newly redesignated paragraph (e).

The additions read as follows:

§ 93.302 Inspection of certain aircraft and other means of conveyance and shipping containers thereon; unloading, cleaning, and disinfection requirements.

(a) Shipping container requirements: Shipping containers used to transport live equine(s) to the United States must meet the following requirements:

(1) Containers must be new or cleaned and disinfected in a manner that sufficiently reduces the risk of introduction or dissemination of any pests or diseases of livestock into the United States.

(2) Containers must be of sufficient size and construction to reasonably assure that live equine(s) are transported safely.

(3) Stocking density of live equine(s) must not be to an extent that impinges on the animals' safety during transportation.

(4) Guidance on how to meet these requirements may be found in the Live Animal Regulations (LAR), as amended, published by the International Air Transport Association (IATA). The Administrator may also approve alternative guidance than that described in the LAR.

* * * * *

(e) Shipping container: * * *

§ 93.304 [Amended]

5. In § 93.304, paragraph (a)(1)(i) is amended, in the first sentence, by adding the words “or transiting” after the words “For horses from”, adding the words “Federal quarantine or” after the words “quarantine at a”, and removing the words “except as otherwise provided for in §§ 93.315, 93.319, and 93.321,”, and in the next to last sentence, by adding the words “, or other attestation regarding the health of the animals” after the word “subjected”.

§ 93.306 [Amended]

5. Section 93.306 is amended by adding the words “, to include horses dead upon presentation,” after the words “all other horses” in the second sentence.

6. Section 93.307 is revised to read as follows:

§ 93.307 Articles accompanying horses.

No litter or manure, fodder or other aliment, nor any equipment such as boxes, buckets, ropes, chains, blankets, or other things used for or about horses governed under any law or regulation administered by the Secretary of Agriculture for prevention of the introduction or dissemination of any pests or diseases of livestock, shall be landed from any conveyance except under such restrictions as the inspector in charge at the port of entry shall direct.

v7. Section 93.308 is amended as follows:

a. By revising paragraph (a)(1);

b. By redesignating paragraphs (a)(3) and (4) as paragraphs (a)(4) and (5), respectively, and adding a new paragraph (a)(3);

c. By revising footnote 11;

d. In paragraph (b) introductory text, by adding the words “, except horses originating from regions in which Venezuelan equine encephalomyelitis or screwworm is declared to exist,” after “§ 93.303(e)”; and

e. In paragraph (c)(4)(v)(B), by removing “(a)(4)” and adding “(a)(5)” in its place.

The revisions and addition read as follows:

§ 93.308 Quarantine requirements.

(a) * * *

(1) Except as provided in §§ 93.317 (horses from Canada) and 93.324 (horses from Mexico), horses intended for importation from regions that APHIS considers to be affected with Venezuelan equine encephalomyelitis shall be quarantined at a port designated in § 93.303 to be evaluated for signs of Venezuelan equine encephalomyelitis. Each horse must be accompanied at the time of importation by an import permit in accordance with § 93.304.

(i) A list of regions that APHIS considers affected with Venezuelan equine encephalomyelitis is maintained on the APHIS website at https://www.aphis.usda.gov/aphis/ourfocus/animalhealth/animal-and-animal-product-import-information/animal-health-status-of-regions. Copies of the list can be obtained via postal mail or email upon request to Regionalization Evaluation Services, Strategy and Policy, Veterinary Services, Animal and Plant Health Inspection Service, 4700 River Road, Unit 38, Riverdale, Maryland 20737; AskRegionalization@usda.gov.

(ii) APHIS will add a region to the list upon determining that the disease exists in the region based on reports APHIS receives of outbreaks of the disease from veterinary officials of the exporting country, from the World Organization for Animal Health (OIE), or from other sources the Administrator determines to be reliable. APHIS will remove a region from the list after conducting an evaluation of the region in accordance with § 92.2 of this subchapter and finding that the disease is not present in the region. In the case of a region formerly not on this list that is added due to an outbreak, the region may be removed from the list in accordance with the procedures for reestablishment of a region's disease-free status in § 92.4 of this subchapter.

* * * * *

(3) Horses from regions where APHIS considers screwworm to exist may be imported into the United States only if they meet the requirements in paragraphs (a)(3)(i) through (vii) of this section, obtain an import permit in accordance with § 93.304, and meet all other applicable requirements of this part. A list of regions where screwworm is considered to exist is maintained on the APHIS website at https://www.aphis.usda.gov/animalhealth/disease-status-of-regions. Copies of the list will also be available via postal mail, fax, or email upon request to the Regionalization Evaluation Services, Strategy and Policy, Veterinary Services, Animal and Plant Health Inspection Service, 4700 River Road, Unit 38, Riverdale, MD 20737; AskRegionalization@usda.gov. APHIS will add a region to the list upon determining that screwworm exists in the region based on reports APHIS receives of detections of the pest from veterinary officials of the exporting country, from the World Organization for Animal Health (OIE), or from other sources the Administrator determines to be reliable. APHIS will remove a region from the list after conducting an evaluation of the region in accordance with § 92.2 of this subchapter and finding that screwworm is not present in the region. In the case of a region formerly not on this list that is added due to a detection, the region may be removed from the list in accordance with the procedures for reestablishment of a region's disease-free status in § 92.4 of this subchapter.

(i) A veterinarian must treat horses with ivermectin 3 to 5 days prior to the date of export to the United States according to the recommended dose prescribed on the product's label.

(ii) Horses must be examined for screwworm by a full-time salaried veterinary official of the exporting country within 24 hours prior to shipment to the United States. The official must fully examine the horses, including their external genitalia. If horses are found to be infested with screwworm, they must be treated until free from infestation.

(iii) At the time horses are loaded onto a means of conveyance for export, a veterinarian must treat any visible wounds on the animals with a solution of coumaphos dust at a concentration of 5 percent active ingredient.

(iv) Horses must be accompanied to the United States by a certificate signed by a full-time salaried veterinary official of the exporting country. The certificate must state that the horses, including their external genitalia, have been thoroughly examined and found free of screwworm and that the horses have been treated in accordance with paragraphs (a)(3)(i) and (iii) of this section.

(v) Horses must be quarantined upon arrival in the United States at a port designated in § 93.303 for at least 7 days.

(vi) Horses must be examined for screwworm by a veterinarian within 24 hours after arrival at a port designated in § 93.303. The examining veterinarian must examine horses, including their external genitalia, to determine whether the horse is infested with screwworm.

(vii) Horses must be held at the animal import center for a minimum of 7 days. On day 7, prior to the horses' release, the horses must be examined by a veterinarian at the expense of the owner or broker. For this examination, male horses must be tranquilized or sedated so that the external genitalia of the horses can be thoroughly examined. If screwworm is found during this examination, the horses must be held in quarantine and treated until free of infestation.

* * * * *

¹¹ Protocols for testing equines in import quarantine are available on the APHIS website at https://www.aphis.usda.gov/aphis/ourfocus/importexport/animal-import-and-export/equine/guidelines-docs-related-to-importing-equine.

8. Section 93.314 is amended as follows:

a. By revising paragraphs (a) introductory text and (a)(1);

b. By redesignating paragraphs (a)(4) and (5) as paragraphs (a)(6) and (7), respectively, and adding new paragraphs (a)(4) and (5);

c. By revising newly redesignated paragraph (a)(7)(i); and

d. By adding paragraph (d).

The revisions and additions read as follows:

§ 93.314 Horses, certification, and accompanying equipment.

(a) Horses offered for importation from any part of the world shall be accompanied by an original certificate endorsed by a salaried veterinary officer of the national government of the region of origin, or if exported from Mexico, shall be accompanied either by such a certificate or by a certificate issued by a veterinarian accredited by the National Government of Mexico and endorsed by a full-time salaried veterinary officer of the National Government of Mexico, thereby representing that the veterinarian issuing the certificate was authorized to do so. The certificate shall specify the name and address of the importer; the species, breed, number or quantity of horses or horse test specimens to be imported; the purpose of the importation; individual horse identification which requires a description of the horse, name, age, markings and, when present, registration number, tattoo, microchip, eartag, brand, if any; the region and premises of origin; the name and address of the exporter; and the destination address for release into the United States; and shows that:

(1) The horses described in the certificate have been in said region during the 60 days preceding exportation, or, for horses described in § 93.301(g), for the duration of their temporary exportation to each CEM-affected region;

* * * * *

(4) The horse, if applicable, has not been gelded during the 14 days preceding exportation. If gelded, the horse is accompanied by certificate of castration including date of completion and removal of both testicles;

(5) The horse will be accompanied by documentation of pre-export examination occurring within 48 hours of export endorsed by a salaried veterinary medical officer;

* * * * *

(7) * * *

(i) The horses, except horses described in § 93.301(f), have not been in any region listed in accordance with § 93.301(c)(1) on the APHIS website as affected with CEM during the 12 months immediately prior to their importation into the United States;

* * * * *

(d) For purposes of this section, the term “original” means documentation is prepared and issued directly from the national government of the region of origin or annotated by the national government of the region of origin to indicate how the documentation may be verified. Any declaration, permit, or other required document for horses may be issued and presented using a United States Government electronic information exchange system or other method authorized by APHIS.

9. Section 93.317 is amended as follows:

a. By revising paragraph (a);

b. In paragraph (b), by removing the words “, without USDA veterinary port inspection,” after the words “30-day-period”; and

c. By redesignating paragraph (c) as paragraph (d) and adding a new paragraph (c).

The revision and addition read as follows:

§ 93.317 Horses from Canada.

(a) Except as provided in paragraph (d) of this section, horses from Canada shall be accompanied by a certificate as required by § 93.314, which shall include evidence of a negative test for equine infectious anemia for which blood samples were drawn during the 180 days preceding exportation to the United States and which test was conducted in a laboratory approved by the Canada Department of Agriculture or the United States Department of Agriculture. Horses accompanying their dams, which were foaled after their dam was so tested negative, need not be so tested and shall otherwise be handled as provided in § 93.314. Certificates required for horses from Canada must be issued and endorsed by a salaried veterinarian of the Canadian Government.

* * * * *

(c) Any horse imported into the United States from Canada through air or ocean ports of entry must obtain an import permit under § 93.304 and shall otherwise be handled as provided in §§ 93.305 and 93.314.

* * * * *

§ 93.318 [Amended]

10. In § 93.318, paragraph (b) is amended by removing the words “: And, provided further, That all horses offered for re-entry upon examination by the veterinary inspector at the U.S. port of entry, are found by the inspector to be free of pests or diseases of livestock and exposure thereto and are determined to be the identical horses covered by said certificates or are the natural increase of such horses born after official test dates certified on the dam's health certificate” after the words “offered for return to the United States”.

11. Section 93.319 is revised to read as follows:

§ 93.319 Import permit and declaration for horses.

For all horses offered for importation from or transiting through regions of Central America or of the West Indies, the importer or his or her agent shall have obtained an import permit under § 93.304 and shall present two copies of a declaration as provided in § 93.305.

§ 93.320 [Amended]

12. Section 93.320 is amended by adding the words “or transiting through” after the word “from”.

13. Section 93.321 is amended by adding a sentence after the last sentence to read as follows:

§ 93.321 Import permits and applications for inspection for horses.

* * * Horses quarantined at a U.S. facility designated in § 93.303 must obtain an import permit under § 93.304.

14. Section 93.324 is amended by revising footnote 19 to read as follows:

§ 93.324 Detention for quarantine.

* * * * *

¹⁹ Protocols for testing equines in import quarantine are available on the APHIS website at https://www.aphis.usda.gov/aphis/ourfocus/importexport/animal-import-and-export/equine/guidelines-docs-related-to-importing-equine.

Done in Washington, DC, this 18th day of November 2021.
Jack Shere,
Acting Administrator, Animal and Plant Health Inspection Service.

[FR Doc. 2021-25613 Filed 11-26-21; 8:45 am]

BILLING CODE 3410-34-P